DEPARTMENT OF HEALTH AND HUMAN SERVICES

Centers for Disease Control and Prevention

[60 Day-08-08BM]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

An Examination of the Implementation of the Safe Dates Program Under Naturalistic Conditions—New—National Center for Injury Prevention and Control (NCIPC), Centers for Disease Control and Prevention (CDC).

Background and Brief Description

The specific aims of this study are to conduct a survey that will allow for a greater understanding of the implementation of the Safe Dates program in a real-world context among parties that purchase the curriculum directly from the publisher (Hazelden Foundation), to describe circumstances leading up to the purchase decision, to examine the extent to which the program is implemented as designed and tested (i.e., with fidelity), and to identify circumstances that support or hinder high-fidelity implementation of this evidence-based dating violence prevention program. The proposed study presents a unique opportunity to directly gather information from curriculum purchasers and program implementers who typically are not involved in implementation research but who are likely to represent real-world implementers of evidence-based curricula.

There is an increasing trend for publishing houses to buy the rights to evidence-based curricula directly from the developer. However, little information exists to determine whether or not those who purchase the curricula implement it as intended. If not, then program benefits may not be achieved. This project will allow CDC to determine whether or not one evidence-based program, Safe Dates, is implemented as intended, and will inform CDC's efforts to facilitate the widespread but effective implementation of evidence-based curricula.

With support from the publishing company, the investigation will seek participation from an estimated 1,000 organizations and/or individuals who purchased the curriculum and who know about how it was implemented. A particular focus will be placed on investigating the extent to which the program, which includes 9 classroom sessions, a play, and a poster contest, was implemented with fidelity. This is important given that there is no evidence of program effectiveness if less than the full curriculum is delivered.

All data will be collected through Web-based questionnaires. The design of these questionnaires is informed by a theoretical model grounded in the organizational behavior, psychology and healthcare planning literatures that illuminates factors and processes expected to impact the decision to implement evidence-based programs and, also, the extent to which these programs are implemented with fidelity. Consequently, items included in the Web questionnaires are adapted from existing scales with known reliability. The questionnaires will include a section on characteristics of the purchasing organization, factors that lead to the decision to purchase the curriculum, and questions related to whether the program was implemented as intended.

A snowball sampling technique will be used to recruit survey respondents. First, an initial letter on CDC letterhead will be sent by the publisher to roughly 1,000 individuals known to have purchased the curriculum. This information is available from a mailing list kept by the publisher. Second, individuals on the mailing list will be asked to complete the survey and to provide contact information for other individuals known to have implemented the curriculum. And third, these individuals will be asked to complete the survey and provide other relevant contacts. The survey and lead letter will state on the opening screen that participation in the study is voluntary. Informed consent will be obtained from all participants prior to completing the surveys.

Roughly 1,000 lead letters will be mailed and it is expected 500 surveys will be completed.

There are no costs to respondents except their time to complete surveys.

Estimated Annualized Burden Hours
Respondents | Estimated number of respondents | Number of responses per respondent | Average burden per response (in hours) | Estimated total burden (in hours)
Web-survey | 500 | 1 | 27/60 | 225
Total |  |  |  | 225

Dated: August 18, 2008.
Maryam I. Daneshvar,
Acting Reports Clearance Officer, Centers for Disease Control and Prevention.

[FR Doc. E8-19728 Filed 8-25-08; 8:45 am]

BILLING CODE 4163-18-P